SMALL BUSINESS ADMINISTRATION

[Declaration of Disaster #3527]

State of Arizona

Pima County and the contiguous counties of Cochise, Graham, Maricopa, Pinal, Santa Cruz, and Yuma in the State of Arizona constitute a disaster area due to damages caused by the Aspen Fire that occurred beginning on June 17, 2003 and continuing. Applications for loans for physical damage as a result of this disaster may be filed until the close of business on September 15, 2003 and for economic injury until the close of business on April 16, 2004 at the address listed below or other locally announced locations: U.S. Small Business Administration, Disaster Area 4 Office, P.O. Box 13795, Sacramento, CA 95853-4795.

The interest rates are:

| Percent
For Physical Damage:
Homeowners with Credit Available Elsewhere: | 5.625
Homeowners Without Credit Available Elsewhere: | 2.812
Businesses with Credit Available Elsewhere: | 5.906
Businesses and Non-Profit Organizations Without Credit Available Elsewhere: | 2.953
Others (Including Non-Profit Organizations) with Credit Available Elsewhere: | 5.500
For Economic Injury: Businesses and Small Agricultural Cooperatives Without Credit Available Elsewhere: | 2.953

The number assigned to this disaster for physical damage is 352705. For economic injury, the number is 9W4100.

(Catalog of Federal Domestic Assistance Program Nos. 59002 and 59008)

Dated: July 16, 2003.
Hector V. Barreto,
Administrator.

[FR Doc. 03-18726 Filed 7-22-03; 8:45 am]

BILLING CODE 8025-01-P